DEPARTMENT OF TRANSPORTATION

Federal Aviation Administration

14 CFR Part 39

[Docket No. FAA-2006-25173; Directorate Identifier 2006-NE-24-AD; Amendment 39-14693; AD 2006-15-13]

RIN 2120-AA64

Airworthiness Directives; McCauley Propeller Systems Propeller Models B5JFR36C1101/114GCA-0, C5JFR36C1102/L114GCA-0, B5JFR36C1103/114HCA-0, and C5JFR36C1104/L114HCA-0

AGENCY: Federal Aviation Administration (FAA), Department of Transportation (DOT).

ACTION: Final rule; request for comments.

SUMMARY: The FAA is adopting a new airworthiness directive (AD) for McCauley Propeller Systems propeller models B5JFR36C1101/114GCA-0, C5JFR36C1102/L114GCA-0, B5JFR36C1103/114HCA-0, and C5JFR36C1104/L114HCA-0. This AD requires a onetime fluorescent penetrant inspection (FPI) and eddy current inspection (ECI) of propeller blades for cracks, and if any crack indications are found, removing the blade from service. This AD results from a report of two propeller blades on the same propeller assembly, found cracked during propeller overhaul. We are issuing this AD to detect cracks in the propeller blade that could cause failure and separation of the propeller blade and loss of control of the airplane.

DATES: This AD becomes effective August 10, 2006. The Director of the Federal Register approved the incorporation by reference of certain publications listed in the regulations as of August 10, 2006.

We must receive any comments on this AD by September 25, 2006.

ADDRESSES: Use one of the following addresses to comment on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact McCauley Propeller Systems, 7751 East Pawnee, Wichita, KS 67277 for the service information referenced in this AD.

FOR FURTHER INFORMATION CONTACT: Jeff Janusz, Aerospace Engineer, Wichita Aircraft Certification Office, FAA, Small Airplane Directorate, 1801 Airport Road, Room 100, Wichita, KS 67209, telephone: (316) 946-4148; fax: (316) 946-4107.

SUPPLEMENTARY INFORMATION: In May 2006, McCauley Propeller Systems received a report from an operator of two propeller blades found cracked during propeller overhaul. The propeller blades were installed on the same propeller assembly; on a “Jetstream 41” airplane. The cracks were located in the propeller blade retention groove, near the ledge where the split retainers seat and on or near the shot peened surface of the retention groove. To date, no further reports of these cracks have been received, and we know of no propeller blade failures due to these cracks. The FAA is continuing to investigate, however, and we may issue further ADs based on the inspection results reported to us under this AD. In order to assess the extent of any problem, we need to have all the inspection results reported to us, even those showing that no crack indications were found. This condition, if not corrected, could result in a failure and separation of the propeller blade and loss of control of the airplane.

Relevant Service Information

We have reviewed and approved the technical contents of McCauley Propellers Alert Service Bulletin (ASB) ASB252, dated June 6, 2006. That ASB describes procedures for performing a onetime FPI and ECI of propeller blades for cracks.

FAA's Determination and Requirements of This AD

The unsafe condition described previously is likely to exist or develop on other McCauley Propeller Systems propeller models B5JFR36C1101/114GCA-0, C5JFR36C1102/L114GCA-0, B5JFR36C1103/114HCA-0, and C5JFR36C1104/L114HCA-0 of the same type design. For that reason, we are issuing this AD to detect cracks in the propeller blade that could cause failure and separation of the propeller blade and loss of control of the airplane. This AD requires for certain blades, a onetime FPI and ECI of propeller blades for cracks within 100 operating hours time-in-service after the effective date of the AD, and if any crack indications are found, removal from service. You must use the service information described previously to perform the actions required by this AD.

FAA's Determination of the Effective Date

Since an unsafe condition exists that requires the immediate adoption of this AD, we have found that notice and opportunity for public comment before issuing this AD are impracticable, and that good cause exists for making this amendment effective in less than 30 days.

Interim Action

These actions are interim actions and we may take further rulemaking actions in the future.

Comments Invited

This AD is a final rule that involves requirements affecting flight safety and was not preceded by notice and an opportunity for public comment; however, we invite you to send us any written relevant data, views, or arguments regarding this AD. Send your comments to an address listed under ADDRESSES. Include “AD Docket No. FAA-2006-25173; Directorate Identifier 2006-NE-24-D” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-15-13 McCauley Propeller Systems: Amendment 39-14693. Docket No. FAA-2006-25173; Directorate Identifier 2006-NE-24-AD.

Effective Date

(a) This airworthiness directive (AD) becomes effective August 10, 2006.

Affected ADs

(b) None.

Applicability

(c) This AD applies to McCauley Propeller Systems propeller models B5JFR36C1101/114GCA-0, C5JFR36C1102/L114GCA-0, B5JFR36C1103/114HCA-0, and C5JFR36C1104/L114HCA-0. These propellers are installed on BAE Systems (Operations) Limited Jetstream Model 4100 and 4101 series airplanes (Jetstream 41).

Unsafe Condition

(d) This AD results from a report of two propeller blades on the same propeller assembly, found cracked during propeller overhaul. We are issuing this AD to detect cracks in the propeller blade that could cause failure and separation of the propeller blade and loss of control of the airplane.

Compliance

(e) You are responsible for having the actions required by this AD performed within the compliance times specified unless the actions have already been done.

Onetime Propeller Blade Inspection

(f) Perform a onetime fluorescent penetrant inspection and eddy current inspection of propeller blades, using the Equipment Required and Accomplishment Instructions of McCauley Propellers Alert Service Bulletin ASB252, dated June 6, 2006, using the following compliance schedule:

Table 1.—Compliance Schedule
If the propeller blade: | Then inspect the propeller blade:
(1) Has 1,200 operating hours or more time-in-service (TIS) and has not reached first overhaul | Within 100 operating hours TIS after the effective date of this AD.
(2) Has 1,000 operating hours or more TIS since last overhaul | Within 100 operating hours TIS after the effective date of this AD.
(3) Has fewer than 1,200 operating hours TIS | Before the propeller blade reaches 1,300 operating hours TIS.
(4) Has been overhauled but has fewer than 1,000 operating hours time-since-overhaul (TSO) | Upon reaching 1,100 operating hours TSO.

Propeller Blades Found Cracked

(g) Remove from service propeller blades found with any crack indications.

Reporting Requirements

(h) Within 10 calendar days of the inspection, use the Reporting Form for Service Bulletin 252 to report all inspection findings to:

(1) The FAA, Wichita Aircraft Certification Office, 1801 Airport Road, Room 100, Wichita, KS 67209, Attention: Jeff Janusz, telephone (316) 946-4148; FAX (316) 946-4107, e-mail: jeff.janusz@faa.gov; and

(2) McCauley Propeller Systems, 7751 East Pawnee, Wichita, KS 67277.

(3) The Office of Management and Budget (OMB) has approved the reporting requirements and assigned OMB control number 2120-0056.

Alternative Methods of Compliance

(i) The Manager, Wichita Aircraft Certification Office, has the authority to approve alternative methods of compliance for this AD if requested using the procedures found in 14 CFR 39.19.

Special Flight Permits

(j) Under 39.23, we are limiting the availability of special flight permits for this AD. Special flight permits are available only if:

(1) The operator has not seen signs of external oil leakage from the hub; and

(2) The operator has not observed abnormal propeller vibration or abnormal engine vibration; and

(3) The operator has not observed any other abnormal operation from the engine or propeller; and

(4) The operator has not made earlier reports of abnormal propeller vibration, abnormal engine vibration, or other abnormal engine or propeller operations, that have not been addressed.

Related Information

(k) None.

Material Incorporated by Reference

(l) You must use McCauley Propeller Systems Alert Service Bulletin ASB252, dated June 6, 2006, to perform the inspections required by this AD. The Director of the Federal Register approved the incorporation by reference of this service bulletin in accordance with 5 U.S.C. 552(a) and 1 CFR part 51. Contact McCauley Propeller Systems, 7751 East Pawnee, Wichita, KS 67277, for a copy of this service information. You may review copies at the FAA, New England Region, Office of the Regional Counsel, 12 New England Executive Park, Burlington, MA; or at the National Archives and Records Administration (NARA). For information on the availability of this material at NARA, call 202-741-6030, or go to: http://www.archives.gov/federal-register/cfr/ibr-locations.html.

Issued in Burlington, Massachusetts, on July 18, 2006.
Francis A. Favara,
Manager, Engine and Propeller Directorate, Aircraft Certification Service.

[FR Doc. E6-11799 Filed 7-25-06; 8:45 am]

BILLING CODE 4910-13-P